DEPARTMENT OF THE INTERIOR

Bureau of Land Management

[WO-310-1310-PB-24 1A]

OMB Control Number 1004-0196; Information Collection Submitted to the Office of Management and Budget Under the Paperwork Reduction Act

The Bureau of Land Management (BLM) has submitted an extension of a currently approved collection to collect the information listed below to the Office of Management and Budget (OMB) under the provisions of the Paperwork Reduction Act (44 U.S.C. 3501 et seq.). On February 10, 2003, the BLM published a notice in the Federal Register (68 FR 6757) requesting comment on this information collection. The comment period ended on April 11, 2003. The BLM received no comments. You may obtain copies of the collection of information and related forms and explanatory material by contacting the BLM Information Collection Clearance Officer at the telephone number listed below.

The OMB must respond to this request within 60 days but may respond after 30 days. For maximum consideration your comments and suggestions on the requirements should be directed within 30 days to the Office of Management and Budget, Interior Department Desk Officer (1004-0196), at OMB-OIRA via facsimile to (202) 396-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of our estimate of the burden of collecting the information, including the validity of the methodology and assumptions used;

3. The quality, utility and clarity of the information we collect; and

4. How to minimize the burden of collecting the information on those who are to respond, including the use of appropriate automated, electronic, mechanical, or other forms of information technology.

Title: Oil and Gas Leasing: National Petroleum Reserve, Alaska (NPRA) (43 CFR 3130, 3133, 3135, 3137, 3138, 3160).

OMB Control Number: 1004-0196.

Bureau Form Number: Nonform.

Abstract: The BLM uses the information from oil and gas operators and operating rights owners to maintain records or provide information to apply for suspensions of royalty; apply for suspensions of operations; form and maintain unit agreements; and to enter into subsurface storage agreements.

Frequency: Occasional

Description of Respondents: Oil and gas operators and operating rights owners.

Estimated Completion Time
Information collection (43 CFR) | Requirement | Hours per response | Number of respondents | Total burden hours
3133.4 | Royalty reduction | 16 | 1 | 16
3135.3 | Suspension of operations | 4 | 1 | 4
3135.6 | Notification of operations | .25 | 1 | .25
3137.23 | Unit designation | 80 | 3 | 240
3137.25 | Notification of unit approval | 1 | 3 | 3
3137.52 | Certification for modification | 4 | 1 | 4
3137.60 | Acceptable Bonding | .5 | 3 | 1.5
3137.61 | Change of unit operator | .75 | 2 | 1.5
3137.70 | Certification of unit obligation | 2 | 3 | 6
3137.71 | Certification of continuing development | 2 | 3 | 6
3137.84 | Productivity for a PA | 12 | 2 | 24
3137.87 | Unleased tracts | 3 | 1 | 3
3137.88 | Notification of productivity | .5 | 1 | .5
3137.91 | Notification of productivity for non-unit well | .5 | 1 | .5
3137.92 | Production information | 1 | 1 | 1
3137.112 | Lease extension | 3 | 1 | 3
3137.113 | Inability to conduct operations activities | 2 | 2 | 2
3137.130 | Unit termination | 1 | 2 | 2
3137.135 | Impact mitigation | 4 | 3 | 12
3138.11 | Storage agreement | 80 | 1 | 80
Totals |  |  | 35 | 410.25

Annual Responses: 35.

Application Fee Per Response. $0.

[FR Doc. 04-25997 Filed 11-23-04; 8:45 am]

BILLING CODE 4310-84-M